DEPARTMENT OF ENERGY

Federal Energy Regulatory Commission

Combined Notice of Filings

Take notice that the Commission has received the following Natural Gas Pipeline Rate and Refund Report filings:

Docket Numbers: RP20-1087-000.

Applicants: Equitrans, L.P.

Description: § 4(d) Rate Filing: Negotiated Rate Capacity Release Agreement—8/8/2020 to be effective 8/8/2020.

Filed Date: 8/7/20.

Accession Number: 20200807-5062.

Comments Due: 5 p.m. ET 8/19/20.

Docket Numbers: RP20-1090-000.

Applicants: Iroquois Gas Transmission System, L.P.

Description: § 4(d) Rate Filing: 081120 Negotiated Rates—Wells Fargo Commodities, LLC R-7810-19 to be effective 10/1/2020.

Filed Date: 8/11/20.

Accession Number: 20200811-5027.

Comments Due: 5 p.m. ET 8/24/20.

Docket Numbers: RP20-1091-000.

Applicants: Rockies Express Pipeline LLC.

Description: § 4(d) Rate Filing: REX 2020-08-11 Negotiated Rate Agreement to be effective 8/11/2020.

Filed Date: 8/11/20.

Accession Number: 20200811-5093.

Comments Due: 5 p.m. ET 8/24/20.

Docket Numbers: RP20-1092-000.

Applicants: Texas Gas Transmission, LLC.

Description: § 4(d) Rate Filing: Neg Rate Agmt (Westlake 38162) to be effective 8/1/2020.

Filed Date: 8/11/20.

Accession Number: 20200811-5094.

Comments Due: 5 p.m. ET 8/24/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 12, 2020.
Nathaniel J. Davis, Sr.,
Deputy Secretary.

[FR Doc. 2020-18024 Filed 8-17-20; 8:45 am]

BILLING CODE 6717-01-P